GOVERNMENT ACCOUNTABILITY OFFICE

Request for Nominations for the Physician-Focused Payment Model Technical Advisory Committee (PTAC)

AGENCY: Government Accountability Office.

ACTION: Request for letters of nomination and resumes.

SUMMARY: The Medicare Access and CHIP Reauthorization Act of 2015 established the Physician-Focused Payment Model Technical Advisory Committee to provide comments and recommendations to the Secretary of Health and Human Services on physician payment models and gave the Comptroller General responsibility for appointing its members. The Government Accountability Office (GAO) is now accepting nominations of individuals for this committee.

DATES: Letters of nomination and resumes should be submitted no later than July 15, 2025, to ensure adequate opportunity for review and consideration of nominees prior to appointment. Appointments will be made in October 2025.

ADDRESSES: Submit letters of nomination and resumes to PTACcommittee@gao.gov.

FOR FURTHER INFORMATION CONTACT: Greg Giusto at giustog@gao.gov or (202) 512-7114 if you do not receive an acknowledgement within a week of submission or you need additional information. For general information, contact GAO's Office of Public Affairs, at PublicAffairs@gao.gov.

Authority: Sec. 101(e), Pub. L. 114-10, 129 Stat. 87, 115 (2015).

Gene L. Dodaro,
Comptroller General of the United States.

[FR Doc. 2025-11056 Filed 6-13-25; 8:45 am]

BILLING CODE 1610-02-P